DEPARTMENT OF COMMERCE

National Oceanic and Atmospheric Administration

[RTID 0648-XF406]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management and New England Fishery Management Councils will hold a public meeting of their joint Northeast Trawl Advisory Panel.

DATES: The meeting will be held on Thursday, February 12, 2026, from 9 a.m.-5 p.m. For agenda details, see SUPPLEMENTARY INFORMATION.

ADDRESSES: This meeting will be conducted in person with a virtual option available. The meeting will be held at the Virginia Institute of Marine Science (VIMS) Campus in the Davis Boardroom (7539 Spencer Road, Gloucester Point, VA 23062), telephone: (804) 684-7000. Connection information will be posted to the Council's calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Councils' Northeast Trawl Advisory Panel (NTAP) will meet to receive updates on recent Federal and cooperative surveys, as well as other communications from the Northeast Fisheries Science Center (NEFSC). The Panel will also review plans for the Regional Industry-Based Trawl Survey (RIBTS) Phase 1 pilot project, anticipated for Spring 2026, including a demonstration of Phase 1 survey equipment. In addition, NTAP will discuss ongoing planning for the RIBTS Phase 2 pilot project being developed by the NTAP Working Group.

The meeting is physically accessible to people with disabilities. Requests for sign language interpretation or other auxiliary aids should be directed to Shelley Spedden, (302) 526-5251 at least 5 days prior to the meeting date.

Authority: 16 U.S.C. 1801 et seq.

Dated: January 13, 2026.
Rey Israel Marquez,
Acting Deputy Director, Office of Sustainable Fisheries, National Marine Fisheries Service.

[FR Doc. 2026-00740 Filed 1-14-26; 8:45 am]

BILLING CODE 3510-22-P